DEPARTMENT OF JUSTICE

Antitrust Division

Notice Pursuant to the National Cooperative Research and Production Act of 1993 ODVA, Inc. (Formerly Open Devicenet Vendor Association, Inc.)

Notice is hereby given that, on March 17, 2010, pursuant to Section 6(a) of the National Cooperative Research and Production Act of 1993, 15 U.S.C. 4301 et seq. (“the Act”), Open DeviceNet Vendor Association, Inc. (“ODVA”) has filed written notifications simultaneously with the Attorney General and the Federal Trade Commission disclosing changes in its membership. The notifications were filed for the purpose of extending the Act's provisions limiting the recovery of antitrust plaintiffs to actual damages under specified circumstances. Open DeviceNet Vendor Association, Inc. has changed its name to ODVA, Inc. (“ODVA”). In addition, ICES, Seoul, REPUBLIC OF KOREA; Hesmor GrnbH, Aachen, NRW, GERMANY; Wittenstein AG, Igersheim, BadenWurttemberg, GERMANY; Kunbus GmbH Industrial Communication, Denhendorf, BW, GERMANY; Azbil North America, Inc. (formerly Yamatake Sensing Control), Phoenix, AZ; LS Cable, Anyang-Si, Gyeonggi-do, REPUBLIC OF KOREA; VAT Vacuum Valves AG, Haag, St. Gallen, SWITZERLAND; Caron Engineering, Inc., Wells, ME; Spang Power Electronics, Pittsburgh, PA; Alstom Transport, LevalloisPerret, FRANCE; Endress+Hauser, Reinach, SWITZERLAND; Panasonic Corporation/Motor Company, Daito City, Osaka, JAPAN; Control Concepts Inc., Chanhassen, MN; Exlar Corporation, Chanhassen, MN; Hermary Opto Electronics Inc., Coquitlam, British Columbia, CANADA; Kaijo Corporation, Hamura City, Tokyo, JAPAN; and Procon Engineering Limited, Sevenoaks, Kent, England, UNITED KINGDOM, have been added as parties to this venture.

Also, Semtorq Inc., Aurora, OH; Real Time Objects & Systems, LLC, Brookfield, WI; Ross Controls, Troy, MI; RuggedCom Inc., Concord, Ontario, CANADA; Rockwell Automation/Reliance Electric, Greenville, SC; DAIDEN Co., Ltd., Kurume City, JAPAN; CommScope, Inc., Claremont, NC; Graco Inc., Minneapolis, MN; DDK Ltd., Tokyo, JAPAN; Souriau, York, PA; BOC Edwards, Crawley, West Sussex, UNITED KINGDOM; Yaskawa Eshed Technology Ltd., Rosh Ha'ayin, ISRAEL; Automationdirect.com, Curnming, GA; Comau S.p.A. Robotics & Final Assembly Division, Torino, ITALY; MettlerToledo, Greifensee, SWITZERLAND; Ten X Technology, Inc., Austin, TX; Cervis Inc., Warrendale, PA; IDEC IZUNI Corporation, Osaka, JAPAN; National Semiconductor, Santa Clara, CA; MISCO Refractometer, Cleveland, OH; Banner Engineering Corporation, Minneapolis, MN; ASI Advanced Semiconductor Instruments GrnbH, Berlin, GERMANY; AGM Electronics, Inc., Tuscon, AZ; Symbol Technologies, Inc., Holtsville, NY; Tyco Electronics, Schaffhausen, SWITZERLAND; NT International, an Entegris Company, Minneapolis, MN; LEONI Special Cables GrnbH, Friesoythe, GERMANY; HanYang System, Shihung-Shi, REPUBLIC OF KOREA; INNOBIS, CheonanSi, REPUBLIC OF KOREA; S-Net Automation Co., Ltd., Seoul, REPUBLIC OF KOREA; LinkBASE, Seoul, REPUBLIC OF KOREA; KELK, Toronto, Ontario, CANADA; TPC Mechatronics, Co., Ltd., Seoul, REPUBLIC OF KOREA; Robostar Co., Ltd., Ansan City, REPUBLIC OF KOREA; Hanyoung Nux, Incheon, REPUBLIC OF KOREA; Kuroda Pneumatics Ltd., Kawasaki, Kanagawa, JAPAN; S0ftDEL Systems Limited, Mumbai, INDIA; Elettro Stemi S.R.L., Altavilla Vicentina, ITALY; Welding Technology Corporation (WTC), Carol Stream, IL; KVC Co. Ltd., Bucheon-Si, REPUBLIC OF KOREA; Northern Network Solutions, LLC, Cottage Grove, MI; Hitachi Industrial Equipment Systems Co., Ltd., Tokyo, JAPAN; Seoil Electric Co., Ltd., Namyang-Si, REPUBLIC OF KOREA; Kun Hung Electric Co., Ltd., Seoul, REPUBLIC OF KOREA; Dynisco Instruments LLC, Franklin, MA; Electro-Sensors, Inc., Minnetonka, NN; Contrex Inc., Maple Grove, bIN; Korenix Technology Co. Ltd., Taipei, TAIWAN; Arlington Laboratory, Burlington, MA; Matsushita Electric Industrial Co., Ltd., Osaka, JAPAN; and Phoenix Digital Corporation, Scottsdale, AZ, have withdrawn as parties to this venture.

The following members have changed their names: Parker Hannif in Corp. (Veriflo Division) to Parker Hannif in Corporation, Cleveland, OH; Kistler-Morse Corporation to Kistler-Morse, Spartanburg, SC; Showa Electric Wire & Cable Co. to SWCC Showa Cable Systems Co., Ltd., Aomori-City, JAPAN; ARO Controls S.A.S. to ARO Welding Technologies S.A.S., Chateau du Loir, FRANCE; Komatsu Electronics Inc. to KELK, Hiratsuka, JAPAN; Hirschmann to Hirschmann, a Belden brand, Neckartenzlingen, GERMANY; Lumberg, Inc. to Lumberg, a Belden brand, Schalksmühle, GERMANY; Toshiba International Corporation to Toshiba Corporation, Tokyo, JAPAN; Sola/Heavy Duty to SolaHD, Rosemont, IL; Kuroda Precision Industries Ltd. to Kuroda Pneumatics Ltd., Kawasaki, Kanagawa, JAPAN; and MTT Company Ltd. to MTT Corporation, Hyogo, JAPAN.

No other changes have been made in either the membership or planned activity of the group research project. Membership in this group research project remains open, and ODVA intends to file additional written notifications disclosing all changes in membership.

On June 21, 1995, ODVA filed its original notification pursuant to Section 6(a) of the Act. The Department of Justice published a notice in the Federal Register pursuant to Section 6(b) of the Act on February 15, 1996 (61 FR 6039).

The last notification was filed with the Department on April 10, 2009. A notice was published in the Federal Register pursuant to Section 6(b) of the Act on May 21, 2009 (73 FR 23884).

Patricia A. Brink,
Deputy Director of Operations, Antitrust Division.

[FR Doc. 2010-10445 Filed 5-5-10; 8:45 am]

BILLING CODE 4410-11-M